DEPARTMENT OF DEFENSE

Department of the Navy

[Docket ID: USN-2015-HQ-0014]

Privacy Act of 1974; System of Records

AGENCY: Department of the Navy, DoD.

ACTION: Notice to add a new system of records.

SUMMARY: The Department of the Navy proposes to add a new system of records, N01000-6, entitled “Strategic Programs (SP) 205 Training Records” to provide support and track the training progress of naval personnel (commissioned officers and enlisted) who manage, operate, and maintain Strategic Weapons System (SWS) and Attack Weapon System (AWS). To document and track the completion of and/or validate the training courses. To provide the status of the training to the commands, DoD training managers, and to the Navy personnel.

DATES: Comments will be accepted on or before November 30, 2015. This proposed action will be effective the day following the end of the comment period unless comments are received which result in a contrary determination.

ADDRESSES: You may submit comments, identified by docket number and title, by any of the following methods:

* Federal Rulemaking Portal: http://www.regulations.gov. Follow the instructions for submitting comments.

* Mail: Department of Defense, Office of the Deputy Chief Management Officer, Directorate of Oversight and Compliance, Regulatory and Audit Matters Office, 9010 Defense Pentagon, Washington, DC 20301-9010.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Robin Patterson, Head, PA/FOIA Office (DNS-36), Department of the Navy, 2000 Navy Pentagon, Washington, DC 20350-2000, or by phone at (202) 685-6545.

SUPPLEMENTARY INFORMATION: The Department of the Navy notices for systems of records subject to the Privacy Act of 1974 (5 U.S.C. 552a), as amended, have been published in the Federal Register and are available from the address in FOR FURTHER INFORMATION CONTACT or from the Defense Privacy and Civil Liberties Division Web site at http://dpcld.defense.gov/.

The proposed system report, as required by 5 U.S.C. 552a(r) of the Privacy Act of 1974, as amended, was submitted on May 20, 2015, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: October 27, 2015.
Aaron Siegel,
Alternate OSD Federal Register Liaison Officer, Department of Defense.

N01000-6

System name:

Strategic Programs (SP) 205 Training Records.

System location:

Training records are located at multiple locations:

Chenega Logistics, 6506 Loisdale Road, Suite 200, Springfield, VA 22150-1815.

Trident Training Facility, 2000 Thresher Avenue, Silverdale, WA 9838-2004.

Trident Training Facility, 1040 Georgia Avenue, Kings Bay, GA 31547-2150.

Each of the following Naval Commands will also retain the Training Records:

USS Ohio SSGN 726

USS Michigan SSGN 727

USS Florida SSGN 728

USS Georgia SSGN 729

USS Henry M. Jackson SSBN 730

USS Alabama SSBN 731

USS Alaska SSBN 732

USS Nevada SSBN 733

USS Tennessee SSBN 734

USS Pennsylvania SSBN 735

USS West Virginia SSBN 736

USS Kentucky SSBN 737

USS Maryland SSBN 738

USS Nebraska SSBN 739

USS Rhode Island SSBN 740

USS Maine SSBN 741

USS Wyoming SSBN 742

USS Louisiana SSBN 743

Categories of individuals covered by the system:

All active duty naval personnel who are responsible for managing, operating, or maintaining the Strategic Weapon System (SWS) and Attack Weapon System (AWS).

Categories of records in the system:

Records include name, Social Security Number (SSN), DoD ID Number, date of birth, place of birth, rate/rank, military status, mailing/home address, role (e.g. student, afloat administrator, and Manager afloat) Unique Identification Code (UIC), command name or command group, Corporate Enterprise Training Activity Resource System Identification (CeTARS ID), student course assignment, and transcript.

Authority for maintenance of the system:

5 U.S.C. 301, Departmental Regulations; 10 U.S.C. 5013, Secretary of the Navy; OPNAVINST 1510.10C, Corporate Enterprise Training Activity Resource System; DoDI 1322.26, Development, Management and Delivery of Distributed Learning; and E.O. 9397 (SSN), as amended.

Purpose(s):

The Strategic Programs (SP) 205 Training Records system is designed to provide support and track the training progress of naval personnel (commissioned officers and enlisted) who manage, operate, and maintain Strategic Weapons System (SWS) and Attack Weapon System (AWS). To document and track the completion of and/or validate the training courses. To provide the status of the training to the commands, DoD training managers, and to the Navy personnel.

Routine uses of records maintained in the system, including categories of users and the purpose of such uses:

In addition to those disclosures generally permitted under 5 U.S.C. 552a(b) of the Privacy Act of 1974, as amended, these records contained therein may specifically be disclosed outside the DoD as a routine use pursuant to 5 U.S.C. 552a(b)(3) as follows:

The DoD Blanket Routine Uses set forth at the beginning of the Department of Navy's compilation of system of records notices may apply to this system. The complete list of DoD Blanket Routine Uses can be found online at: http://dpcld.defense.gov/Privacy/SORNsIndex/BlanketRoutineUses.aspx.

Policies and practices for storing, retrieving, accessing, retaining, and disposing of records in the system:

Storage:

Electronic storage media.

Retrievability:

Name, SSN, DoD ID Number, command name or command group, UIC, and/or CeTARS ID.

Safeguards:

Physical access to the system is provided on a need-to-know and to Common Access Card (CAC) authorized and authenticated personnel. CAC authorization, assignment and monitoring are the responsibility of the functional training managers.

Retention and disposal:

SP-205 Training Records are permanent. Cutoff at end of calendar year and transferred to the Washington National Records Center when 4 years old, and then transferred to the National Archives when 30 years old.

All third-party requests for disclosure of data from the SP-205 Training Records will be retained on board and destroyed when 2 years old. Deletion of individual records will be accomplished by erasing.

System manager(s) and address:

Director, Strategic Systems Programs HQ, 1250 10th Street, Washington Navy Yard, DC 20347-5127.

Notification procedure:

Individuals seeking to determine whether this system of records contain information about themselves should address written inquiries to the Director, Strategic Systems Programs HQ, 1250 10th Street, Washington Navy Yard, DC 20347-5127.

The request should contain full name, date of birth, place of birth, SSN, DoD ID Number, mailing/home address and signature of the requester.

In addition, the requestor must provide a notarized statement or an unsworn declaration made in accordance with 28 U.S.C. 1746, in the following format:

If executed outside the United States: “I declare [or certify, verify, or state] under penalty of perjury under the laws of the United States of America that the foregoing is true and correct. Executed on [date]. [Signature]”

If executed within the United States, its territories, possessions, or commonwealths: “I declare [or certify, verify, or state] under penalty of perjury that the foregoing is true and correct. Executed on [date]. [Signature]”

Record access procedures:

Individuals seeking access to records about themselves contained in this system of records should address written inquiries to the Director, Strategic Systems Programs HQ, 1250 10th Street, Washington Navy Yard, DC 20347-5127.

The request should contain full name, date of birth, place of birth, SSN, DoD ID Number, mailing/home address and signature of the requester.

In addition, the requestor must provide a notarized statement or an unsworn declaration made in accordance with 28 U.S.C. 1746, in the following format:

If executed outside the United States: “I declare [or certify, verify, or state] under penalty of perjury under the laws of the United States of America that the foregoing is true and correct. Executed on [date]. [Signature]”

If executed within the United States, its territories, possessions, or commonwealths: “I declare [or certify, verify, or state] under penalty of perjury that the foregoing is true and correct. Executed on [date]. [Signature]”

Contesting record procedures:

The Navy's rule for accessing records and for contesting contents and appealing initial agency determination are published in Secretary in the Navy Instruction 5211.5; 32 CFR part 701; or may be obtained from the system manager.

Record source categories:

Individual, score reports, and Corporate Enterprise Training Activity Resource System Identification (CeTARS).

Exemptions claimed for the system:

None.

[FR Doc. 2015-27713 Filed 10-29-15; 8:45 am]

BILLING CODE 5001-06-P